DEPARTMENT OF TRANSPORTATION

Federal Railroad Administration

[Docket Number FRA-2020-0078]

Notice of Application for Approval of Discontinuance or Modification of a Railroad Signal System

Under part 235 of title 49 of the Code of Federal Regulations (CFR) and 49 U.S.C. 20502(a), this document provides the public notice that on September 21, 2020, Union Pacific Railroad Company (UPRR) petitioned the Federal Railroad Administration (FRA) seeking approval to discontinue or modify a signal system. FRA assigned the petition Docket Number FRA-2020-0078.

Applicant: Union Pacific Railroad Company, Mr. Neal Hathaway, A.V.P.—Signal Maintenance & Construction, 1400 Douglas Street, MS/RM 0910, Omaha, NE 68179

Specifically, UPRR requests permission to re-classify a portion of Main Track #2 from yard limits (YL)/automatic block system (ABS) to YL, between milepost (MP) 2.6 and MP 4.7, allowing the remote control locomotive (RCL) pullback on Main Track #2 to be extended through Grand Avenue at Milwaukee Subdivision (Proviso Yard 9) located in Proviso, Illinois.

UPRR states that extending YL on Main Track #2 will allow Operating Practices to pull longer cuts out of the yard, which will in turn help with congestion and conflict in the yard. RCL Operations would end a minimum of 290 feet from the track feed for the signal at MP 4.7 on Main Track #2.

The current configuration of the 2WT track circuit and the Main Track Crossover between the current end of ABS Limits and MP 4.7 will not change with this application.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by November 23, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-22204 Filed 10-6-20; 8:45 am]

BILLING CODE 4910-06-P